DEPARTMENT OF TRANSPORTATION

Federal Aviation Administration

14 CFR Part 39

[Docket No. FAA-2008-0151; Directorate Identifier 2007-NM-347-AD]

RIN 2120-AA64

Airworthiness Directives; Boeing Model 727 Airplanes

AGENCY: Federal Aviation Administration (FAA), DOT.

ACTION: Notice of proposed rulemaking (NPRM).

SUMMARY: We propose to adopt a new airworthiness directive (AD) for all Boeing Model 727 airplanes. This proposed AD would require repetitive inspections for any crack in the area of the elevator side fitting/hinge fitting joint and for any crack or elongation inside and outside of the holes in the clevis and in the lug, corrective actions if necessary, and other specified actions. This proposed AD results from reports of elongated holes and cracks found in the lugs of the attachment fittings of the elevator quadrant upper support assembly at the tip of the vertical fin. We are proposing this AD to detect and correct damage to the aft attachment lugs of the elevator quadrant support assembly that could lead to failure of the lugs. This condition could accelerate wear elsewhere in the elevator control system, which could reduce the crew's ability to maintain safe flight.

DATES: We must receive comments on this proposed AD by March 24, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Berhane Alazar, Aerospace Engineer, Airframe Branch, ANM-120S, FAA, Seattle Aircraft Certification Office, 1601 Lind Avenue, SW., Renton, Washington 98057-3356; telephone (425) 917-6577; fax (425) 917-6590.

SUPPLEMENTARY INFORMATION:

Comments Invited

We invite you to send any written relevant data, views, or arguments about this proposed AD. Send your comments to an address listed under the ADDRESSES section. Include “Docket No. FAA-2008-0151; Directorate Identifier 2007-NM-347-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of elongated holes or cracks found in the lugs of the attachment fittings on three Boeing Model 727 airplanes. The attachment fittings are located on the left and right sides of the elevator quadrant upper support assembly at the tip of the vertical fin. In one incident, the lug was cracked completely through. The airplanes had accumulated between 28,385 and 72,448 total flight hours and between 16,387 and 47,485 total flight cycles. Damage to the aft attachment lugs of the elevator quadrant support assembly could lead to failure of the lugs. This condition, if not corrected, could accelerate wear elsewhere in the elevator control system, which could reduce the crew's ability to maintain safe flight.

Relevant Service Information

We have reviewed Boeing Special Attention Service Bulletin 727-55-0092, dated June 4, 2007. Part 2 of the Accomplishment Instructions of the service bulletin describes procedures for doing repetitive detailed inspections for any crack in the area of the elevator side fitting/hinge fitting joint, repetitive detailed inspections for elongation inside and outside of the holes in the clevis and in the lug, and high frequency eddy current (HFEC) inspections for any crack inside and outside of the holes in the clevis and in the lug. The service bulletin specifies doing these initial inspections within 18 months of the date on the service bulletin. The service bulletin also specifies repeating the inspections at intervals not to exceed 24 months, 4,000 flight hours, or 3,000 flight cycles, whichever occurs first, until the repair or modification specified in Part 3 of the Accomplishment Instructions is done.

The service bulletin also describes procedures for doing corrective actions if necessary. The corrective actions, which the service bulletin specifies doing before further flight, include the following actions:

• Repairing the elevator side fittings and hinge fittings as specified in Part 3 of the Accomplishment Instructions if any crack, or any hole diameter elongation over 0.3203 inch, is found during the inspections specified in Part 2 of the service bulletin. The repair includes oversizing the holes, fabricating new bushings, installing and in-line reaming the fabricated bushings through the entire stack-up, and installing the elevator side fittings.

• Replacing the bushings with fabricated bushings if any hole diameter elongation over 0.3203 inch is found during the inspections specified in Part 4 of the Accomplishment Instructions of the service bulletin.

• Contacting Boeing for repair instructions if any damage is beyond the repair limits or any crack is found in the area of the elevator side fitting/hinge fitting joint, during any inspection specified in Part 2 or Part 4 of the Accomplishment Instructions of the service bulletin.

The service bulletin also describes procedures for doing other specified actions, which include the following:

• Either installing the elevator side fittings and access panels and restoring the cable tension, or modifying the elevator side fittings and hinge fittings, if all of the holes are found acceptable during the inspections specified in Part 2 of the Accomplishment Instructions. The modification includes oversizing the holes, fabricating and installing new bushings, in-line reaming the fabricated bushings through the entire stack-up, and installing the elevator side fittings. The service bulletin specifies that the modification must be done in conjunction with the Part 2 detailed and HFEC inspections.

• After the repair or modification specified in Part 3 of the Accomplishment Instructions has been done, doing repetitive detailed inspections for any crack in the area of the elevator side fitting/hinge fitting joint and repetitive detailed inspections for elongation inside and outside of the holes in the clevis and in the lug as specified in Part 4 of the Accomplishment Instructions. The service bulletin specifies doing the initial inspections within 24,000 flight hours or 16,000 flight cycles, whichever occurs first, after accomplishing the repair or modification specified in Part 3 of the service bulletin. The service bulletin also specifies repeating the inspections at intervals not to exceed 24,000 flight hours or 16,000 flight cycles, whichever occurs first.

FAA's Determination and Requirements of This Proposed AD

We are proposing this AD because we evaluated all relevant information and determined the unsafe condition described previously is likely to exist or develop in other products of the(se) same type design(s). This proposed AD would require accomplishing the actions specified in the service information described previously, except as discussed under “Difference between the Proposed AD and Service Bulletin.”

Difference Between the Proposed AD and Service Bulletin

The service bulletin specifies to contact the manufacturer for instructions on how to repair certain conditions, but this proposed AD would require repairing those conditions in one of the following ways:

• Using a method that we approve; or

• Using data that meet the certification basis of the airplane, and that have been approved by an Authorized Representative for the Boeing Commercial Airplanes Delegation Option Authorization Organization whom we have authorized to make those findings.

Costs of Compliance

We estimate that this proposed AD would affect 401 airplanes of U.S. registry. We also estimate that it would take about 2 work-hours per product to comply with this proposed AD. The average labor rate is $80 per work-hour. Based on these figures, we estimate the cost of this proposed AD to the U.S. operators to be $64,160 or $160 per product, per inspection cycle.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2008-0151; Directorate Identifier 2007-NM-347-AD.

Comments Due Date

(a) We must receive comments by March 24, 2008.

Affected ADs

(b) None.

Applicability

(c) This AD applies to all Boeing Model 727, 727C, 727-100, 727-100C, 727-200, and 727-200F series airplanes, certificated in any category.

Unsafe Condition

(d) This AD results from reports of elongated holes and cracks found in the lugs of the attachment fittings of the elevator quadrant upper support assembly at the tip of the vertical fin. We are issuing this AD to detect and correct damage to the aft attachment lugs of the elevator quadrant support assembly that could lead to failure of the lugs. This condition could accelerate wear elsewhere in the elevator control system, which could reduce the crew's ability to maintain safe flight.

Compliance

(e) Comply with this AD within the compliance times specified, unless already done.

Repetitive Inspections and Corrective/Other Specified Actions

(f) At the applicable compliance times specified in paragraph 1.E. of Boeing Special Attention Service Bulletin 727-55-0092, dated June 4, 2007, except as provided by paragraph (g) of this AD: Do the detailed inspection for any crack in the area of the elevator side fitting/hinge fitting joint, detailed inspections for elongation inside and outside of the holes in the clevis and in the lug, and high frequency eddy current (HFEC) inspections for any crack inside and outside of the holes in the clevis and in the lug, and do all the applicable corrective actions and other specified actions, by accomplishing all of the applicable actions specified in the Accomplishment Instructions of the service bulletin, except as provided by paragraph (h) of this AD. Repeat the inspections thereafter at the applicable intervals specified in paragraph 1.E. of the service bulletin. Accomplishing the repair or modification specified in Part 3 of the service bulletin only terminates the repetitive inspections specified in Part 2 of the service bulletin.

Exception to Compliance Times

(g) Where Boeing Special Attention Service Bulletin 727-55-0092, dated June 4, 2007, specifies counting the compliance time from “* * * the date on this service bulletin,” this AD requires counting the compliance time from the effective date of this AD.

Exception to Corrective Actions

(h) If any damage beyond the repair limits or any crack is found in the area of the elevator side fitting/hinge fitting joint during any inspection required by this AD, and Boeing Special Attention Service Bulletin 727-55-0092, dated June 4, 2007, specifies to contact Boeing for appropriate action: Before further flight, repair the crack using a method approved in accordance with the procedures specified in paragraph (i) of this AD.

Alternative Methods of Compliance (AMOCs)

(i)(1) The Manager, Seattle Aircraft Certification Office, FAA, ATTN: Berhane Alazar, Aerospace Engineer, Airframe Branch, ANM-120S, 1601 Lind Avenue, SW., Renton, Washington 98057-3356; telephone (425) 917-6577; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

Issued in Renton, Washington, on January 31, 2008.
Ali Bahrami,
Manager, Transport Airplane Directorate, Aircraft Certification Service.

[FR Doc. E8-2354 Filed 2-7-08; 8:45 am]

BILLING CODE 4910-13-P